ENVIRONMENTAL PROTECTION AGENCY

[ER-FRL-6643-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 4, 2003 (68 FR 16511).

Draft EISs

ERP No. D-AFS-J70021-SD Rating EC2, Prairie Project Area (Lower Rapid Creek Area), Multiple Resource Management Actions, Implementation, Black Hills National Forest, Mystic Ranger District, Pennington County, ID.

Summary: EPA has environmental concerns about potential soil erosion, runoff and degradation of water quality and stream habitat, stream sedimentation, and impacts to wildlife and sensitive species. EPA recommended the final EIS include measures to minimize impacts to important wildlife habitat and private property when harvesting on the Forest Service-private land interface.

ERP No. D-FHW-E40797-MS Rating LO, Airport Parkway Extension, Improvements to MS-475 from I-20 to Old Brandon Road, U.S. Army COE Section 404 Permit Issuance, Rankin County, MS.

Summary: EPA has lack of objections to the proposed action.

However, EPA recommends that further information regarding project description, project need and adequate mitigation be included in the FEIS.

ERP No. D-FHW-F40413-IL Rating EC2, US 20 (FAP 301) Construction Project, IL-84 north of Galena to Bolton Road northwest of Freeport, Funding, NPDES Permit and U.S. Army COE Section 404 Permit Issuance, Jo Davies and Stephenson Counties, IL.

Summary: EPA has environmental concerns with the proposed project relating to: (1) Karst areas and groundwater contamination, (2) impaired water impacts, (3) neotropical migrant impacts, and (4) forest impact mitigation.

ERP No. D-FHW-F40414-OH Rating EC2, Butler County, OH-63 Extension to U.S. 127 (Trenton Area Access), Construction of a Multi-Lane Limited Access, Divided Highway on New Alignment from east of OH-41/OH-63 Interchange in the City of Monroe, Funding, Butler County, OH.

Summary: EPA has environmental concerns with the proposed project regarding potential ground water contamination in a federally-designated sole source aquifer (the Great Miami/Little Miami Buried Valley Aquifer System). EPA also asks that more information be provided on wetlands mitigation and impacts to surface water.

ERP No. D-FHW-F40415-IN Rating EC2, US 31 Improvement Project (I-465 to IN-38) between I-465 North Leg and IN-38, Funding, NPDES Permit and U.S. Army Section 10 and 404 Permits Issuance, Hamilton County, IN.

Summary: EPA has environmental concerns with the preferred alternative regarding potentially adverse impacts to public drinking water supplies, forests, wetlands, streams and floodplains. EPA recommends the FEIS include specific mitigation measures to minimize and/or compensate for these impacts.

ERP No. D-FHW-G40174-TX Rating LO, Eastern Extension of the President George Bush Turnpike (PGBT) from TX-78 to I-30, New Controlled Access Tollway Construction at a New Location, Cities of Garland, Sachse, Rowlett and Dallas, Dallas County, TX.

Summary: EPA has no objections to the project as proposed. EPA recommends additional information regarding the areas of air quality and floodplain mitigation be included in the FEIS.

ERP No. D-NPS-G65086-TX Rating LO, Big Bend National Park General Management Plan, Implementation, Brewster County, TX.

Summary: EPA has no objections to the selection of the preferred alternative as described.

ERP No. D-NPS-J65384-MT Rating EC2, Glacier National Park Commercial Services Plan, and General Management Plan, Implementation, Glacier National Park, a Portion of Waterton-Glacier International Peace Park, Flathead and Glacier Counties, MT.

Summary: EPA expressed environmental concerns with potential impacts to outstanding resource waters within Glacier National Park from stream channel maintenance activities and construction. EPA believes additional information should be presented to fully assess and mitigate all potential impacts of the management actions.

Final EISs

ERP No. F-AFS-K65249-CA, Stream Fire Restoration Project, Implementation, Plumas National Forest, Mt. Hough Ranger District, Plumas County, CA.

Summary: No formal comment letter was sent to the preparing agency.

ERP No. F-BLM-K61155-CA, Imperial Sand Dunes Recreation Area Management Plan Revision and Update and Amendment to the California Desert Conservation Area Plan, Implementation, Imperial County, CA.

Summary: No formal comment letter was sent to the preparing agency.

ERP No. F-COE-G39036-TX, North Padre Island Storm Damage Reduction and Environmental Restoration Project, Construction of a Channel between the Laquna Madre and the Gulf of Mexico across North Padre Island referred to as Packery Channel Project, Nueces County, TX.

Summary: EPA had no objections to the proposed action.

ERP No. F-DOE-L08055-WA, Kangley—Echo Lake Transmission Line Project, New 500-kilovolt (kV) Transmission Line Construction, U.S. Army COE Section 10 and 404 Permits Issuance, King County, WA.

Summary: No formal comment letter was sent to the preparing agency.

ERP No. F-DOE-L08063-WA, Plymouth Generating Facility, Construction and Operation of a 307-megawatt (MW) Natural Gas-Fired Combined Cycle Power Generation Facility on a 44.5 Acre Site, Conditional Use/Special Use Permit Issuance, Benton County, WA.

Summary: EPA continues to have environmental concerns with the lack of a comprehensive air quality cumulative effects analysis.

ERP No. F-FHW-K40253-CA, Riverside County Integrated Project, Winchester to Temecula Corridor, Construction of a New Multi-Modal Transportation Facility, Route Location and Right-of-Way Preservation, Riverside County, CA.

Summary: EPA has environmental concerns regarding the preferred alternative's contribution to habitat fragmentation, and impacts to endangered species, waters of the United States, water quality and air quality. EPA requests clarifications in the Record of Decision, and commitments that these key issues be addressed in the Tier 2 project level evaluation.

ERP No. F-USN-K11107-CA, Naval Station Treasure Island Disposal and Reuse Property, Implementation, Local Redevelopment Authority (LRA), City of San Francisco, San Francisco County, CA.

Summary: No formal comment letter was sent to the preparing agency.

ERP No. FS-COE-G39002-00, Red River Chloride Control Project, Authorization to Reduce the Natural Occurring Levels of Chloride in the Wichita River Portion Only, North, Middle and South Forks, Wichita River and Red River, Implementation, Tulsa District, Wichita County, TX.

Summary: EPA had no objections to the preferred alternative.

ERP No. FS-UAF-K11076-00, Airborne Laser (ABL) Program, Conducting Test Activities at Kirtland Air Force Base (AFB) and White Sands Missile Range/Holloman AFB, New Mexico; and Edwards AFB and Vandenberg AFB, California, NM and CA.

Summary: No formal comment letter was sent to the preparing agency.

Dated: August 19, 2003.
Joseph C. Montgomery,
Director, NEPA Compliance Division, Office of Federal Activities.

[FR Doc. 03-21601 Filed 8-21-03; 8:45 am]

BILLING CODE 6560-50-P